DEPARTMENT OF ENERGY

Federal Energy Regulatory Commission

[Project No. 2547-095]

Village of Swanton, Vermont; Notice of Scoping Meetings and Environmental Site Review and Soliciting Scoping Comments

Take notice that the following hydroelectric application has been filed with the Commission and is available for public inspection.

a. Type of Application: New Major License.

b. Project No.: 2547-095.

c. Date Filed: April 29, 2022.

d. Applicant: Village of Swanton, Vermont (Village).

e. Name of Project: Highgate Falls Hydroelectric Project.

f. Location: On Missisquoi River in Franklin County, Vermont. The project does not occupy any federal land.

g. Filed Pursuant to: Federal Power Act 16 U.S.C. 791(a)-825(r).

h. Applicant Contact: Reginald R. Beliveau, Jr., Manager—Village of Swanton, 120 First Street, Swanton, Vermont 05488; call at (802) 868-3397; email at rbeliveau@swanton.net.

i. FERC Contact: John Baummer at (202) 502-6837; or email at john.baummer@ferc.gov.

j. Deadline for filing scoping comments: October 29, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Highgate Falls Hydroelectric Project (P-2547-095).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Project Description: The existing project consists of: (1) a dam about 670 feet long that consists of: (a) a 235-foot-long earth-filled embankment on the west bank; (b) a 174-foot-long concrete intake structure; (c) a 226-foot-long ogee-shaped concrete spillway section with a 15-foot-high pneumatic crest gate and a maximum crest elevation of 190.0 foot National Geodetic Vertical Datum of 1929 (NGVD29) when fully inflated; and (d) a 35-foot-long concrete abutment on the east bank; (2) an impoundment with a storage capacity of 3,327 acre-feet at an elevation of 190.0 feet NGVD29; (3) a 509-foot-long, 10.5-foot-wide, and 10.5-foot-high concrete conduit connecting to a 243-foot-long, 12-foot-diameter steel penstock that conveys flow from the intake structure to the primary powerhouse; (4) a surge tank; (5) a concrete and masonry main powerhouse containing two 1.0-megawatt (MW), one 2.8-MW, and one 6.0-MW vertical Francis turbine-generators; (6) a 75-foot-long, 5-foot-diameter steel penstock conveying flow from the intake structure to a 0.710-MW crossflow turbine-generator located within a secondary concrete powerhouse; (7) a substation; (8) a 0.5-mile-long, 32-megavolt ampere transmission line; and (9) appurtenant facilities. The project creates an approximately 1,100-foot-long bypassed reach of the Missisquoi River between the dam and the primary powerhouse discharge.

The current license requires that the project operate as a run-of-river facility such that outflow approximates inflow between March 31 and June 1. From June 1 through March 30, the Village operates the project as a peaking facility by generating electricity during daily peak demand periods. When peaking, the Village limits the daily impoundment drawdown to 30 inches or less from the full pond elevation of 190 feet NGVD29. The current license also requires a minimum flow release of 200 cubic feet per second (cfs) or inflow if less, as measured downstream of the primary powerhouse. The 200-cfs minimum flow must include at least 35 cfs or inflow if less, that is released from the dam to the bypassed reach. The average annual generation of the project was approximately 40,667 megawatt-hours from 1989 to 2020.

The applicant proposes to modify current project operation to: (1) operate the project in run-of-river mode between March 31 and June 15, and during periods when inflow is 400 cfs or less, instead of between March 31 and June 1 under current operation; (2) operate the project in a peaking mode from June 16 through March 30; (3) limit impoundment drawdowns during peaking operation to 18 to 24 inches, instead of 30 inches under current operation; (4) refill the impoundment within 8 hours of each drawdown for peaking operation; and (5) continue to provide a minimum flow of 200 cfs downstream of the primary powerhouse, including the following minimum flows to the bypassed reach: 150 cfs in April and May, 70 cfs in June, and 35 cfs from July through March.

The applicant proposes the following environmental measures: (1) develop a freshwater mussel plan for relocating mussels when the impoundment is lowered to 186 feet NGVD 29 or less for prolonged periods of time; (2) develop a plan for protecting horn-leaved riverweed downstream of the Swanton Dam ledges, which are located approximately 7 miles downstream of the powerhouse; (3) provide aesthetic flows of 1 to 3 inches of spill over the dam during certain holidays; (4) improve an existing parking area to accommodate 5 to 7 cars for recreation users; (5) develop a plan to provide access for hand-carry water craft to the impoundment and downstream of the project; and (6) develop an historic properties management plan to protect historic properties.

The applicant also proposes to: (1) conduct a post-licensing evaluation of the feasibility of using the existing downstream Swanton Dam canal works for upstream fish passage; (2) develop a recreational maintenance and enhancement plan to guide regular maintenance activities at recreation facilities; (3) install a warning system to alert recreation users to increases in flow in the bypassed reach and downstream of the powerhouse; and (4) install an electric vehicle charging station for five vehicles using electricity produced by the hydroelectric plant.

m. A copy of the application can be viewed on the Commission's website at https://www.ferc.gov using the “eLibrary” link. Enter the docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

n. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the environmental issues that should be analyzed in the NEPA document. The daytime meeting will focus on the concerns of resource agencies, non-governmental organizations (NGOs), and Native American tribes. The evening meeting will focus on receiving input from the public. All interested individuals, resource agencies, Native American tribes, and NGOs are invited to attend one or both of the meetings. The times and locations of these meetings are as follows:

Daytime Scoping Meeting

Date: Thursday, September 29, 2022

Time: 10 a.m. (EDT)

Place: Highgate Elementary School, White Room

Address: 219 Gore Road, Highgate Center, Vermont 05459

Evening Scoping Meeting

Date: Thursday, September 29, 2022

Time: 7 p.m. (EDT)

Place: Highgate Elementary School, White Room

Address: 219 Gore Road, Highgate Center, Vermont, 05459

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The applicant and Commission staff will conduct an environmental site review of the project beginning at 1 p.m. on September 29, 2022. All interested individuals, agencies, tribes, and NGOs are invited to attend. All participants should meet at the parking lot next to the project dam, which is located at126, Baker Road, Highgate Center, Vermont 05459. All participants are responsible for their own transportation to the site and during the site visit. If you plan to attend the environmental site review, please contact Mr. Reginald R. Beliveau, Jr. of the Village of Swanton, Vermont at (802) 868-3397, or via email at rbeliveau@swanton.net on or before September 23, 2022.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Native American tribes, and agencies with environmental expertise and concerns are encouraged to attend the meeting and to assist the staff in defining and clarifying the issues to be addressed in the NEPA document.

Dated: September 1, 2022.
Kimberly D. Bose,
Secretary.

[FR Doc. 2022-19402 Filed 9-7-22; 8:45 am]

BILLING CODE 6717-01-P